DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for a project in Seattle, Washington. The purpose of this notice is to announce publicly the environmental decisions by FTA on the subject project and to activate the limitation on any claims that may challenge this final environmental action.

DATES: By this notice, FTA is advising the public of final agency actions subject to Section 139(l) of Title 23, United States Code (U.S.C.). A claim seeking judicial review of FTA actions announced herein for the listed public transportation projects will be barred unless the claim is filed on or before June 11, 2018.

FOR FURTHER INFORMATION CONTACT: Nancy-Ellen Zusman, Assistant Chief Counsel, Office of Chief Counsel, (312) 353-2577 or Alan Tabachnick, Environmental Protection Specialist, Office of Environmental Programs, (202) 366-8541. FTA is located at 1200 New Jersey Avenue SE, Washington, DC 20590. Office hours are from 9:00 a.m. to 5:00 p.m., Monday through Friday, except Federal holidays.

SUPPLEMENTARY INFORMATION: Notice is hereby given that FTA has taken final agency action by issuing a certain approval for the public transportation project listed below. The actions on the project, as well as the laws under which such actions were taken, are described in the documentation issued in connection with the project to comply with the National Environmental Policy Act (NEPA) and in other documents in the FTA administrative record for the project. Interested parties may contact either the project sponsor or the FTA Regional Office for more information. Contact information for FTA's Regional Offices may be found at https://www.fta.dot.gov.

This notice applies to all FTA decisions on the listed project as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The project and action that is the subject of this notice follow:

Project name and location: Madison Street Bus Rapid Transit Project, Seattle, Washington. Project Sponsor: Seattle Department of Transportation (SDOT). Project description: The project establishes a 2.3-mile long bus rapid transit (BRT) corridor with 10 BRT station areas with 20 directional platforms, new Transit Only Lanes (TOLs) and Business Access & Transit (BAT) lanes, pedestrian and bicycle improvements, and signal and utility upgrades. The Project will also add Transit Signal Priority (TSP) at most signalized corridor intersections between 7th Avenue and MLK Jr. Way.

Final agency actions: Determination that there is no use of Section 4(f) resources; Section 106 finding of no adverse effect dated April 13, 2017, project-level air quality conformity, and a determination of the applicability of a Documented Categorical Exclusion pursuant to 23 CFR 771.118(d) dated December 27, 2017. Supporting documentation: Documented Categorical Exclusion checklist and supporting materials dated December 2017.

Lucy Garliauskas,
Associate Administrator Planning and Environment.

[FR Doc. 2018-00243 Filed 1-9-18; 8:45 am]

BILLING CODE P